DEPARTMENT OF THE INTERIOR

Fish and Wildlife Service

[FWS-R8-ES-2020-N152; FXES11140800000-20212FF08ECAR00]

Endangered and Threatened Species; Receipt of an Incidental Take Permit Application for the California Condor; Availability of Draft Conservation Plan and Draft Environmental Assessment; Manzana Wind Power Project, Kern County, California

AGENCY: Fish and Wildlife Service, Interior.

ACTION: Notice of availability; request for public comments.

SUMMARY: We, the U.S. Fish and Wildlife Service (Service), have received an application from Manzana Wind LLC for an incidental take permit under the Endangered Species Act of 1973, as amended. The permit would authorize take of the federally endangered California condor (Gymnogyps californianus) incidental to otherwise lawful activities associated with operation of the existing Manzana Wind Power Project. We invite comments on the draft conservation plan and the draft environmental assessment, which we have prepared pursuant to the National Environmental Policy Act. We will take comments into consideration before deciding whether to issue an incidental take permit.

DATES: We are extending the standard 30-day comment period by 15 days to allow additional time for public comment. Written comments should be received on or before February 5, 2021.

ADDRESSES:

To obtain documents: You may view or download copies of the draft conservation plan and draft environmental assessment at https://www.fws.gov/carlsbad/, or you may request hardcopies of the draft documents by contacting our Palm Springs office (see below).

To submit written comments: Please submit your written comments by either of the following methods:

Email: fw8cfwocomments@fws.gov. Include “Manzana Wind Power Incidental Take Permit” in the subject line of the message.

U.S. Mail: Assistant Field Supervisor, Palm Springs Fish and Wildlife Office, U.S. Fish and Wildlife Service, 777 East Tahquitz Canyon Way, Suite 208, Palm Springs, CA 92284.

We request that you send written comments by only the methods described above.

FOR FURTHER INFORMATION CONTACT: Peter Sanzenbacher, Fish and Wildlife Biologist, by mail at Palm Springs Fish and Wildlife Office (address above), by phone at 760-322-2070, extension 425, or via email at peter_sanzenbacher@fws.gov. If you use a telecommunications device for the deaf, hard of hearing, or speech disabled, please call the Federal Relay Service at 800-877-8339.

SUPPLEMENTARY INFORMATION: We have received an application from Manzana Wind LLC (applicant) for an incidental take permit under the Endangered Species Act of 1973, as amended (ESA; 16 U.S.C. 1531 et seq.). The application addresses the potential take of the federally endangered California condor (condor), incidental to otherwise lawful activities at the Manzana Wind Power Project (project), as described in the applicant's draft conservation plan. The project began operations in 2012 and is in the Antelope Valley region of Kern County, California, along the southern foothills of the Tehachapi Mountains.

Background

Section 9 of the ESA (16 U.S.C. 1538) and Federal regulations promulgated pursuant to section 4(d) of the ESA (16 U.S.C. 1533) prohibit the take of endangered species without special exemption. Under section 10(a)(1)(B) of the ESA (16 U.S.C. 1539), we may issue permits to authorize take of listed fish and wildlife species that is incidental to, and not the purpose of, carrying out an otherwise lawful activity. Regulations governing permits for endangered and threatened species are set forth in title 50 of the Code of Federal Regulations at part 17, sections 17.22 and 17.32.

The National Environmental Policy Act (NEPA; 42 U.S.C. 4321 et seq.) requires Federal agencies to analyze their proposed actions to determine whether the actions may significantly affect the human environment. In the NEPA analysis, the Federal agency will identify the effects, as well as possible mitigation for effects on environmental resources, that could occur with the implementation of the proposed action and alternatives. The Federal action in this case is the Service's proposed issuance of an incidental take permit for the federally endangered California condor.

Permit Application

The applicant has submitted a draft conservation plan that describes the activities covered by the permit, such as the operation of wind turbines and other specified activities associated with project components. To minimize the risk of incidental take, the applicant will maintain a program to detect condors approaching the project and temporarily curtail operating wind turbines when appropriate; the conservation plan also includes adaptive management to allow for maintaining the protection of condors as technologies, condor behavior, and other factors change over time. To mitigate the impact of the potential incidental take, the applicant proposes to work with an existing captive breeding facility to fund the production of additional condors for release into the wild. The Service and applicant used a population viability analysis to inform the mitigation strategy and ensure that the level of potential injury or mortality of condors permitted at the project would not impede recovery of the species. The population viability analysis report is appended to the draft conservation plan and the draft environmental assessment. A “Frequently Asked Questions” document for the population viability analysis is also attached to the draft environmental assessment. The draft conservation plan and the draft environmental assessment consider alternatives to the proposed action, including a no action alternative.

Public Comments

If you wish to comment on the draft conservation plan and draft environmental assessment, you may submit comments by one of the methods in ADDRESSES.

Public Availability of Comments

You may submit comments by one of the methods shown under ADDRESSES. All comments and materials we receive in response to this request will become part of the decision record associated with this action. Before including your address, phone number, email address, or other personal identifying information in your comment, you should be aware that your entire comment, including your personal identifying information, may be made publicly available at any time. While you can ask us in your comment to withhold your personal identifying information from public review, we cannot guarantee that we will be able to do so.

Authority

We issue this notice pursuant to section 10(c) of the ESA (16 U.S.C. 1539) and its implementing regulations (50 CFR 17.22), and NEPA (42 U.S.C. 4321 et seq.) and its implementing regulations (40 CFR 1506.6 and 43 CFR 46.305).

Scott Sobiech,
Field Supervisor, Carlsbad Fish and Wildlife Office, Carlsbad, California.

[FR Doc. 2020-28253 Filed 12-21-20; 8:45 am]

BILLING CODE 4333-15-P